DEPARTMENT OF THE INTERIOR

Bureau of Ocean Energy Management

[MMAA 104000]

Notice of Availability of the Proposed Notice of Sale for Gulf of Mexico Outer Continental Shelf Oil and Gas Lease Sale 249

AGENCY: Bureau of Ocean Energy Management, Interior.

ACTION: Notice of availability of the Proposed Notice of Sale for Gulf of Mexico Lease Sale 249.

SUMMARY: The Bureau of Ocean Energy Management (BOEM) announces the availability of the Proposed Notice of Sale (NOS) for the proposed Gulf of Mexico (GOM) Outer Continental Shelf (OCS) Oil and Gas Lease Sale 249 (GOM Sale 249). This Notice is published pursuant to 30 CFR 556.304(c). With regard to oil and gas leasing on the OCS, the Secretary of the Interior, pursuant to section 19 of the Outer Continental Shelf Lands Act, provides affected states the opportunity to review the Proposed NOS. The Proposed NOS sets forth the proposed terms and conditions of the sale, including minimum bids, royalty rates, and rental rates.

DATES: Affected states may comment on the size, timing, and location of proposed GOM Sale 249 within 60 days following their receipt of the Proposed NOS. The Final NOS will be published in the Federal Register at least 30 days prior to the date of bid opening. Bid opening is currently scheduled for August 16, 2017.

SUPPLEMENTARY INFORMATION: The Proposed NOS for GOM Sale 249 and Proposed NOS Package containing information essential to potential bidders may be obtained from the Public Information Unit, Gulf of Mexico Region, Bureau of Ocean Energy Management, 1201 Elmwood Park Boulevard, New Orleans, Louisiana 70123-2394; telephone: (504) 736-2519. The Proposed NOS and Proposed NOS Package also are available on BOEM's Web site at http://www.boem.gov/Sale-249/.

Agency Contact: David Diamond, Chief, Leasing Division, david.diamond@boem.gov.

Dated: March 1, 2017.
Walter D. Cruickshank,
Acting Director, Bureau of Ocean Energy Management.

[FR Doc. 2017-04358 Filed 3-6-17; 8:45 am]

BILLING CODE 4310-MR-P